DEPARTMENT OF HOMELAND SECURITY

Bureau of Customs and Border Protection

Notice of Availability and Public Open House Announcement for the Draft Environmental Impact Statement for Proposed Construction, Operation, and Maintenance of Tactical Infrastructure, U.S. Border Patrol, San Diego Sector, CA

AGENCY: U.S. Customs and Border Protection, Department of Homeland Security.

ACTION: Notice of availability.

SUMMARY: Pursuant to the National Environmental Policy Act of 1969 (NEPA), U.S. Customs and Border Protection (CBP) has prepared a Draft Environmental Impact Statement (EIS) identifying and assessing the potential impacts associated with the proposed construction, operation, and maintenance of tactical infrastructure, to include a primary pedestrian fence, supporting patrol roads, and other infrastructure in two distinct sections along the U.S./Mexico international border within CBP's San Diego Border Patrol Sector. The two fence sections would be approximately 0.8 miles and 3.6 miles in length. Newly constructed access and patrol roads to support each fence section would be 0.8 miles and 5.2 miles respectively. This Federal Register notice announces the availability of and invites public comments on the draft EIS. This document also announces a public open house on the Draft EIS.

DATES: The Draft EIS will be available for public review and comment for a period of 45 days beginning January 4, 2008. Comments must be received by February 19, 2008.

The public open house will be held on January 17, 2008, at the San Diego Convention Center in San Diego, CA. The public open house will be held from 4:30 p.m. to 8 p.m. Please refer to the SUPPLEMENTARY INFORMATION section below for more information.

ADDRESSES: Copies of the Draft EIS can be downloaded from the Internet by visiting http://www.BorderFenceNEPA.com, or https://ecso.swf.usace.army.mil/Pages/Publicreview.cfm, or requested by e-mailing: information@BorderFenceNEPA.com. To request a hard copy of the Draft EIS, you may call toll-free (877) 752-0420. Alternatively, written requests for information may be submitted to: Charles McGregor, U.S. Army Corps of Engineers, Engineering and Construction Support Office, 819 Taylor St., Room 3B10, Fort Worth, Texas 76102; fax: (757) 257-7643. Hard copies of the Draft EIS can be reviewed at the Chula Vista Public Library (365 F Street, Chula Vista, CA 91910, (619) 691-5069); San Diego Central Library (820 E St., San Diego, CA 92101, (619) 236-5800); and San Diego Otay Mesa-Nestor Branch Library (3003 Coronado Ave., San Diego, CA 92154, (619) 424-0474).

The public open house will be held on January 17, 2008, at the San Diego Convention Center, located at 111 W. Harbor Dr., San Diego, CA 92101.

FOR FURTHER INFORMATION CONTACT: Charles McGregor, U.S. Army Corps of Engineers, Engineering and Construction Support Office, 819 Taylor St., Room 3B10, Fort Worth, Texas 76102; and fax: (757) 257-7643.

SUPPLEMENTARY INFORMATION:

Background

On September 24, 2007, U.S. Customs and Border Protection (CBP) published in the Federal Register (72 FR 54277) a Notice of Intent to prepare an EIS to identify and assess the potential impacts associated with the construction, operation, and maintenance of tactical infrastructure, to include a primary pedestrian fence, supporting patrol roads, and other infrastructure in two distinct sections along the U.S./Mexico international border within CBP's San Diego Border Patrol Sector (Proposed Action). The EIS complies with NEPA, the Council on Environmental Quality regulations in 40 CFR Parts 1500-1508, and Department of Homeland Security (DHS) Management Directive 5100.1, Environmental Planning Program.

The mission of CBP is to prevent terrorists and terrorist weapons from entering the U.S., while also facilitating the flow of legitimate trade and travel. In supporting CBP's mission, the Border Patrol is charged with establishing and maintaining effective control of the U.S. border between ports of entry. The purpose of the Proposed Action is to provide Border Patrol agents with the tools necessary to strengthen their control of the U.S. border between ports of entry in the San Diego Sector. The Proposed Action also provides a safer work environment and enables Border Patrol agents to enhance response time.

The Proposed Action would consist of constructing a primary pedestrian fence, patrol roads, access roads, and other infrastructure in two sections. The first proposed section would be approximately 3.6 miles in length and would start at Puebla Tree and end at Boundary Monument 250. A newly constructed access and patrol road to support the fence section would be 5.2 miles in length. The first proposed section would be adjacent to and on the Otay Mountain Wilderness (OMW), and would follow the U.S./Mexico international border where topography allows, deviating from the border to follow a newly constructed access road where conditions warrant, such as descent to canyon bottoms. The OMW is on public lands administered by the Bureau of Land Management (BLM). The second proposed section would be approximately 0.8 miles in length and would connect with existing border fence west of Tecate, California. This fence section would be constructed along the border at the southern base of Tecate Peak. This proposed fence section would encroach on a mix of privately owned land parcels and public land administered by the BLM.

Under the No Action Alternative, a proposed tactical infrastructure would not be built and there would be no change in fencing, access roads, or other facilities along the U.S./Mexico international border in the proposed project locations.

Public Open House

CBP will hold a public open house to provide information and invite comments on the Proposed Action and the Draft EIS. A public open house will be held on January 17, 2008, at the San Diego Convention Center, San Diego, CA 92101. The public open house will be held from 4:30 p.m. to 8 p.m. Border Patrol agents and Draft EIS preparers will be available during the open house. Anyone wishing to submit comments may do so orally or in writing at the open house. Comments received at the open house will be recorded and transcribed into the public record for the open house. Commentors must provide their names and addresses. Spanish language translation will be provided. Those who plan to attend the public open house and will need special assistance, such as sign language interpretation or other reasonable accommodation, should notify the U.S. Army Corps of Engineers (see FOR FURTHER INFORMATION CONTACT) at least 3 business days in advance. Include contact information, as well as information about specific needs. Those unable to attend may submit comments as described under “Request for Comments” below.

Request for Comments

CBP requests public participation in the EIS process. The public may participate by attending the public open house and submitting comments on the Draft EIS. CBP will consider all comments submitted during the public comment period, and subsequently will prepare the Final EIS. CBP will announce the availability of the Final EIS and once again give interested parties an opportunity to review the document. When submitting comments, please include name and address, and identify comments as for the San Diego Sector EIS. Please use only one of the following methods:

(a) Attendance and submission of comments at the Public Open House to be held January 17, 2008 at the San Diego Convention Center in San Diego, CA.

(b) Electronically through the Web site at http://www.BorderFenceNEPA.com.

(c) By e-mail to: SDcomments@BorderFenceNEPA.com.

(d) By mail to: San Diego Sector Tactical Infrastructure EIS, c/o e²M, 2751 Prosperity Avenue, Suite 200, Fairfax, Virginia 22031.

(e) By fax to: (757) 257-7643.

Comments on the Draft EIS should be submitted by February 19, 2008.

Dated: December 28, 2007.
Robert F. Janson,
Acting Executive Director, Asset Management, U.S. Customs and Border Protection.

[FR Doc. E7-25589 Filed 1-3-08; 10:10 am]

BILLING CODE 9111-14-P